DEPARTMENT OF DEFENSE

Defense Logistics Agency

Privacy Act of 1974; Computer Matching Program

AGENCY: Defense Manpower Data Center, Defense Logistics Agency, DOD.

ACTION: Notice of a computer matching program.

SUMMARY: Subsection (e)(12) of the Privacy Act of 1974, as amended, (5 U.S.C. 552a) requires agencies to publish advance notice of any proposed or revised computer matching program by the matching agency for public comment. The Department of Defense (DoD), as the matching agency under the Privacy Act, is hereby giving notice to the record subjects of a computer matching program between Office of Personnel Management (OPM) and DoD that records are being matched by computer. The goal of the match is to identify individuals who are improperly receiving credit for military service in their civil service annuities or annuities based on the “guaranteed minimum” disability formula. This match will identify and/or prevent erroneous payments under the CSRA and FERSA Pay system.

DATES: This proposed action will become effective February 7, 2001 and the computer matching will proceed accordingly without further notice, unless comments are received which would result in a contrary determination or if the Office of Management and Budget or Congress objects thereto. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended, (5 U.S.C. 552a), the DoD and OPM have concluded an agreement to conduct a computer matching program between the agencies. The purpose of the match is to exchange personal data between the agencies for identification of individuals who are improperly receiving military retired pay.

A copy of the computer matching agreement between the OPM and DoD is available upon request to the public. Requests should be submitted to the address caption above or to the Chief, Retirement Inspection Branch, Room 2309, Retirement and Insurance Service, Office of Personnel Management, 1900 E Street, NW, Washington, DC 20415.

Set forth below is a public notice of the establishment of the computer matching program required by paragraph 6.c. of the Office of Management and Budget Guidelines on computer matching published on June 19, 1989, at 54 FR 25818.

The matching agreement, as required by 5 U.S.C. 552a(r) of the Privacy Act, and an advance copy of this notice were submitted on December 20, 2000, to the House Committee on Government Reform, the Senate Committee on Governmental Affairs, and the Administrator of the Office of Information and Regulatory Affairs, Office of Management and Budget pursuant to paragraph 4d of Appendix I to OMB Circular No. A-130, ‘Federal Agency Responsibilities for Maintaining Records about Individuals,’ dated February 8, 1996 (February 20, 1996, 61 FR 6427).

Dated: December 22, 2000.
Patricia L. Toppings,
Alternate OSD Federal Register Liaison Officer, Department of Defense.

Notice of a Computer Matching Program between the Office of Personnel Management, and the Department of Defense for Retired Military Pay.

A. Participating agencies: Participants in this computer matching program are the Office of Personnel Management (OPM) and the Defense Manpower Data Center (DMDC), Department of Defense (DoD). The Office of Personnel Management is the source agency, i.e., the activity disclosing the records for the purpose of the match. The DMDC is the specific recipient activity or matching agency, i.e., the agency that actually performs the computer matching.

B. Purpose of the match: The purpose of this agreement is to establish the conditions for a computer matching program between the OPM as the source agency and DMDC as the recipient agency. The goal of the match is to identify individuals who are improperly receiving credit for military service in their civil service annuities or annuities based on the “guaranteed minimum” disability formula. This match will identify and/or prevent erroneous payments under the CSRA and FERSA Pay system.

C. Authority for conducting the match: It is OPM's responsibility to monitor retirement and survivor benefits paid under 5 U.S.C. 8331 (CSRA), et seq. and 5 U.S.C. 8401 (FESRA), et seq. Specifically, 5 U.S.C. 8332 is the legal authority for CSRA and 5 U.S.C. 8411 is the legal authority for FESRA for determining whether military service may be credited for civil service retirement purposes.

D. Records to be matched: The systems of records described below contain an appropriate routine use provisions which permits disclosure of information between agencies.

OPM will use the system of records identified as OPM/Central-1, ‘Civil Service Retirement and Insurance Records,’ published at 60 FR 63081, December 8, 1995, as amended at 63 FR 45881, August 27, 1998 and at 65 FR 25775, May 3, 2000.

DoD will use the system of records identified as S322.10 DMDC, ‘Defense Manpower Data Center Data Base,’ published at 65 FR 43302, July 13, 2000.

E. Description of computer matching program: The OPM will provided DMDC with an electronic file which contains specified data elements of individual CSRA and FESRA annuitants. Upon receipt of the electronic file, DMDC will perform a computer match using all nine digits of the SSN's in the OPM file against the DMDC computer database on military retired pay data.

The data will be matched to identify those individuals who are being paid in apparent violation of law, i.e., the civil service annuity is based on military service other than that which was awarded (1) on account of a service connected disability incurred in combat with an enemy of the United States; (2) on account of a service connected disability caused by an instrumentality of war and incurred in the line of duty during a period of war; or (3) based on non-regular (i.e., reserve) service under the provisions of 10 U.S.C. 12731-12739.

The data elements provided by OPM for the match file will contain the names, addresses, social security number, date of birth, OPM retirement claim number, OPM provision retired codes, and annuity payment and service data of individuals currently receiving benefits from OPM.

The DMDC database contains approximately 1.9 million records of military retired personnel.

F. Individual notice and opportunity to contest: Due process procedures will be provided by OPM to those individuals matched (hits) consisting of OPM'S verification of debt; a minimum of 30-day written notice to the debtor explaining the debtor's rights; opportunity for the debtor to examine and copy OPM documentation relating to the debt; provision for debtor to seek the OPM review of the debt (or in the case of the salary offset provision, opportunity for a hearing before an individual who is not under the supervision or control of the agency); and opportunity for the individual to enter into a written agreement satisfactory to the OPM for repayment. Only when all of the steps have been taken will OPM disclose information, pursuant to a routine use, to effect an administrative or salary offset. Unless the individual notifies OPM within 30 days from the date of the notice, OPM will infer that the data provided the individual is accurate and correct and will take the next step, as authorized by law, to recoup the delinquent debt.

G. Inclusive dates of the matching program: This computer matching program is subject to review by the Office of Management and Budget and Congress. If the mandatory 30 day period for public comment has expired and if no objections are raised by either Congress or the Office of Management and Budget within 40 days of being notified of the proposed match, the computer matching program becomes effective and the respective agencies may begin the exchange of data at a mutually agreeable time and will be repeated on an bi-annual basis. By agreement between OPM and DoD, the matching program will be in effect and continue for 18 months with an option to extend for 12 additional months unless one of the parties to the agreement advises the other by written request to terminate or modify the agreement.

H. Address for receipt of public comments or inquiries: Director, Defense Privacy Office, 1941 Jefferson Davis Highway, Suite 920 Arlington, VA 22202-4502. Telephone (703) 607-2943.

[FR Doc. 01-418 Filed 1-5-01; 8:45 am]

BILLING CODE 5001-10-P